DEPARTMENT OF JUSTICE

Notice of Lodging of Consent Decree Pursuant to the Clean Air Act and Clean Water Act

Pursuant to 28 CFR 50.7, notice is hereby given that on September 21, 2005, a proposed Consent Decree in United States v. United States Steel Corp., C.A. No 1:05CV2220 was lodged with the United States District Court for the Northern District of Ohio.

In this action, the United States seeks civil penalties and injunctive relief against United States Steel Corp. (“U.S. Steel”), as a successor to certain liabilities of USS/KOBE Steel Company, for violation of the Clean Air Act, 42 U.S.C. 7401 et seq., and provisions of the Ohio State Implementation Plan governing the emission of fugitive dust or particulate matter, and for violation of the Clean Water Act, 33 U.S.C. 1251 et seq., and a National Pollutant Discharge Elimination System (“NPDES”) permit. The alleged violations occurred at a steel manufacturing facility located in Lorain, Ohio. The State of Ohio seeks to intervene in the action as a plaintiff asserting similar claims for relief.

The proposed Consent Decree requires U.S. Steel: (i) To comply with particulate emission limits in a permit issued by the Ohio Environmental Protection Agency pursuant to Title V of the Clean Air Act, (ii) to perform a stack test to verify compliance with applicable particulate emission limits; (iii) to comply with effluent limits in the NPDES permit applicable to the Lorain facility of United States Steel Corp., (iv) to pay a civil penalty of $100,025, divided evenly between the United States and the State of Ohio, and (v) to perform a Supplemental Environmental Project involving the removal from service and disposal of up to 13 transformers containing polychlorinated biphenyls, at a cost not to exceed $294,500.

The Department of Justice will receive, for a period of thirty (30) days from the date of this publication, comments relating to the proposed Consent Decree. Comments should be addressed to the Assistant Attorney General, Environment and Natural Resources Division, U.S. Department of Justice, P.O. Box 7611, Washington, DC 20044-7611; and refer to United States v. United States Steel Corp., DOJ Ref.#90-5-2-1-06709.

The proposed settlement agreement may be examined at the United States Environmental Protection Agency (Region 5), 77 West Jackson Blvd., Chicago, IL 60604-3507 (contact: Christine Liszewski (312-886-4670)). During the comment period, the Consent Decree may also be examined on the following Department of Justice website, http://www.usdoj.gov/enrd/open.html.

A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the proposed Consent Decree from the Consent Decree Library, please enclose a check in the amount of $9.75 (25 cents per page reproduction cost for 39 pages) payable to the U.S. Treasury for a copy of the Consent Decree without attachments. For a copy of the Consent Decree with attachments, please enclose $35.00 (25 cents per page reproduction cost for 140 pages).

William D. Brighton,
Assistant Section Chief, Environmental Enforcement Section.

[FR Doc. 05-20040 Filed 10-5-05; 8:45 am]

BILLING CODE 4410-15-M